DEPARTMENT OF COMMERCE

National Oceanic and Atmospheric Administration

[I.D. 101806G]

Endangered and Threatened Species; Take of Anadromous Fish

AGENCY: National Marine Fisheries Service (NOAA Fisheries), National Oceanic and Atmospheric Administration (NOAA), Commerce.

ACTION: Receipt of applications for renewal and modification of scientific research/enhancement permit and request for comment.

SUMMARY: Notice is hereby given that NMFS has received an application to renew and modify a permit from the Eel River Salmon Restoration Project, Miranda, CA (Permit 1075). This permit would affect Southern Oregon/Northern California Coast (SONCC) coho salmon (Oncorhynchus kisutch), California Coastal (CC) Chinook Salmon (Oncorhynchus tshawytscha) and Northern California (NC) Steelhead (Oncorhynchus mykiss). This document serves to notify the public of the availability of the permit application for review and comment before a final approval or disapproval is made by NMFS.

DATES: Written comments on the permit application must be received at the appropriate address or fax number (see ADDRESSES) no later than 5 p.m. Daylight Savings Time on November 24, 2006.

ADDRESSES: Written comments on this renewal and modification request should be sent to the appropriate office as indicated below. Comments may also be sent via fax to the number indicated for the request. Comments will not be accepted if submitted via e-mail or the internet. The applications and related documents are available for review in the indicated office, by appointment: For Permit 1075 : Steve Liebhardt, Protected Species Division, NOAA Fisheries, 1655 Heindon Road, Arcata, CA 95521 (ph: 707-825-5186, fax: 707-825-4840).

FOR FURTHER INFORMATION CONTACT: Steve Liebhardt by telephone at (707-825B5186), or e-mail: steve.liebhardt@noaa.gov

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NOAA Fisheries regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the following four threatened salmonid ESUs: Southern Oregon/Northern California Coast (SONCC) coho salmon (Oncorhynchus kisutch, California Coastal (CC) Chinook Salmon (Oncorhynchus tshawytscha) and Northern California (NC) Steelhead (Oncorhynchus mykiss).

Renewal and Modification Requests Received

Permit 1075

The Eel River Salmon Restoration Project has requested renewal and modification 2 of Permit 1075 for take of SONCC coho salmon, CC Chinook Salmon and NC steelhead. Studies include: monitoring changes in fish populations in tributaries to the South Fork Eel River, provide fertilized Chinook salmon eggs to local schools for educational purposes and run an adult trap for collection of future fish population trend data sets. Proposed capture methods are by fyke trap and downstream migrant trap. Renewal and Modification of Permit 1075 was originally issued to the Eel River Salmon Restoration Project on February 27, 2004. The Eel River Salmon Restoration Project is currently authorized take of up to 2,000 juvenile coho salmon. The Eel River Salmon Restoration Project has requested a total take of up to 50 adult SONCC coho salmon, 2,000 juvenile SONCC coho salmon, 15,000 juvenile NC steelhead, 50 adult NC steelhead, 303 adult CC Chinook salmon, and 2,500 juvenile CC Chinook salmon. Renewal and Modification of Permit 1075 will expire September 1, 2016.

Dated: October 19, 2006.
Angela Somma,
Chief, Endangered Species Division, Office of Protected Resources, National Marine Fisheries Service.

[FR Doc. E6-17890 Filed 10-24-06; 8:45 am]

BILLING CODE 3510-22-S